DEPARTMENT OF ENERGY

Federal Energy Regulatory Commission

[Project No. 485-065]

Georgia Power Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 485-065.

c. Date filed: December 13, 2012.

d. Applicant: Georgia Power Company.

e. Name of Project: Bartletts Ferry Hydroelectric Project.

f. Location: The existing project is located on the Chattahoochee River, along the Georgia-Alabama border, in Harris County, Georgia, and Lee and Chambers counties, Alabama. The project does not affect federal lands.

g. Filed Pursuant to: Federal Power Act 16 U.S.C. 791 (a)-825(r).

h. Applicant Contact: George A. Martin, Hydro Relicensing Project Manager, Georgia Power Company, 241 Ralph McGill Blvd. NE., BIN 10221, Atlanta, GA 30308; Telephone (404) 506-1357; email—gamartin@southernco.com.

i. FERC Contact: Allan Creamer; Telephone (202) 502-8365; email—allan.creamer@ferc.gov.

j. Deadline for filing motions to intervene and protests, comments, recommendations, preliminary terms and conditions, and preliminary prescriptions: 60 days from the issuance date of this notice (December 10, 2013); reply comments are due 105 days from the issuance date of this notice (January 24, 2014).

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-485-065.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The project consists of a 2,052-foot-long dam, two powerhouses, and a 5,850-acre reservoir (Bartletts Ferry Reservoir or Lake Harding) at a normal water surface elevation of 520.16 feet mean sea level (msl; or 521.0 Plant Datum).

The west side of the project, from west to east, consists of: (1) A 1,230-foot-long, 11.25-foot-high, 22-bay auxiliary labyrinth spillway; (2) a 286-foot-long, 35-foot-high, earth-fill embankment dam; (3) a 92-foot-long by 94-foot-high concrete gravity intake structure, equipped with four vertical lift steel intake gates, connected to the west powerhouse by four 15-foot diameter penstocks; (4) a powerhouse containing three vertical Francis turbines rated at 15 megawatts (MW) each and a fourth vertical Francis turbine rated at 20 MW, with a total installed capacity of 65 MW; and (5) a 634-foot-long concrete gravity spillway with nineteen 21-foot-high by 25-foot-wide radial gates, two 9-foot-high by 11-foot-wide vertical lift trash gates, and four abandoned siphons in two spillway bays.

The east side of the project, from west to east, consists of: (1) A 915-foot-long, 125-foot-high, earth-fill embankment dam; (2) a 650-foot-long intake canal leading to a 177-foot-long concrete gravity intake structure; (3) two penstocks; and (4) a powerhouse with two vertical Francis turbines rated at 54 MW each, with a total installed capacity of 108 MW.

The project is operated in a peaking mode, and is coordinated with the peaking operations at the U.S. Army Corps of Engineers' upstream West Point Dam. The project is normally operated between elevations 518.16 and 520.16 feet msl (or 519.0 and 521.0 Plant Datum), with normal daily average fluctuations of about ¾; foot. The project has an average annual generation of approximately 395,577 megawatt-hours.

m. A copy of the application is available for review at the Commission in the Public Reference Room, or may be viewed on the Commission's Web site at http://www.ferc.gov, using the “eLibrary” link. Enter the docket number, excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target date
Filing of recommendations, preliminary terms and conditions, and preliminary fishway prescriptions | December 2013.
Commission issues EA | April 2014.
Comments on EA | May 2014.
Modified terms and conditions | July 2014.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification.

Dated: October 11, 2013.
Nathaniel J. Davis, Sr.,
Deputy Secretary.

[FR Doc. 2013-24517 Filed 10-18-13; 8:45 am]

BILLING CODE 6717-01-P